SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: September 1-30, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR Part 806, Subpart E

1. Federal Bureau of Prisons—Federal Correctional Institution at Loretto, GF Certificate No. GF-202009111, Allegheny Township and Borough of Loretto, Cambria County, Pa.; Well 1 and consumptive use; Issue Date: September 10, 2020.

2. Troy Borough—Troy Borough Water Department, GF Certificate No. GF-202009112, Troy Borough, Bradford County, Pa.; Wells 1, 2, and 3; Issue Date: September 10, 2020.

3. Weaverland Valley Authority—Blue Ball Water System, GF Certificate No. GF-202009113, East Earl Township, Lancaster County, Pa.; Wells 1, 2, and 3; Issue Date: September 10, 2020.

4. Virginia and Larry Morton—Virginia and Larry Morton Farms, GF Certificate No. GF-202009114, Porter Township, Schuylkill County, Pa.; Wiconisco Creek; Issue Date: September 10, 2020.

5. City of Oneonta—Public Water Supply System, GF Certificate No. GF-202009115, City and Town of Oneonta, Otsego County, N.Y.; Wilber Lake/Lower Reservoir; Issue Date: September 10, 2020.

6. The Municipal Authority of the Borough of Berlin—Public Water Supply System, GF Certificate No. GF-202009116, Allegheny Township, Somerset County, Pa.; Well 6; Issue Date: September 18, 2020.

7. Iron Masters Country Club, GF Certificate No. GF-202009117, Bloomfield Township, Bedford County, Pa.; Wells 10 and 14; Issue Date: September 18, 2020.

8. Sinking Valley Country Club, GF Certificate No. GF-202009118, Tyrone Township, Blair County, Pa.; 14th Fairway Well and 8th Tee Well; Issue Date: September 18, 2020.

Authority: Pub. L. 91-575, 84 Stat. 1509 et seq., 18 CFR parts 806 and 808.

Dated: October 15, 2020.
Jason E. Oyler,
General Counsel and Secretary to the Commission.

[FR Doc. 2020-23174 Filed 10-19-20; 8:45 am]

BILLING CODE 7040-01-P